DEPARTMENT OF STATE

[Public Notice 8278]

Issuance of a Presidential Permit Authorizing the State of Michigan to Construct, Connect, Operate, and Maintain at the Border of the United States a Bridge Linking Detroit, Michigan, and Windsor, Ontario

SUMMARY: The Department of State issued a Presidential Permit to the State of Michigan on April 11, 2013, authorizing the permitee to construct, connect, operate and maintain at the border of the United States a bridge linking Detroit, Michigan and Windsor, Ontario. In making this determination, the Department provided public notice of the proposed amendment (77 FR 7951, July 11, 2012), offered the opportunity for comment and consulted with other federal agencies, as required by Executive Order 11423, as amended.

FOR FURTHER INFORMATION CONTACT: Josh Rubin, Canada Border Affairs Officer, via email at WHACanInternal@state.gov, by phone at 202 647-2256 or by mail at Office of Canadian Affairs—Room 1329, Department of State, 2201 C St., NW., Washington, DC 20520. Information about Presidential permits is available on the Internet at http://www.state.gov/p/wha/rt/permit/.

SUPPLEMENTARY INFORMATION: The following is the text of the issued permit:

By virtue of the authority vested in me as Under Secretary of State for Economic Growth, Energy, and the Environment, including those authorities under Executive Order 11423, 33 FR 11741, as amended by Executive Order 12847 of May 17, 1993, 58 FR 29511, Executive Order 13284 of January 23, 2003, 68 FR 4075, and Executive Order 13337 of April 30, 2004, 69 FR 25299; and Department of State Delegation of Authority 118-2 of January 26, 2006; having considered the environmental effects of the proposed action consistent with the National Environmental Policy Act of 1969 (83 Stat. 852; 42 U.S.C. 4321 et seq.) and other statutes relating to environmental concerns; having considered the proposed action consistent with the National Historic Preservation Act (80 Stat. 917, 16 U.S.C. 470f et seq.); and having requested and received the views of various of the federal departments and other interested persons; I hereby grant permission, subject to the conditions herein set forth, to the State of Michigan (hereinafter referred to as “permittee ”) to construct, connect, operate, and maintain a new international bridge (the New International Trade Crossing) between Detroit, Michigan, and Windsor, Ontario, Canada.

The term “facilities” as used in this permit means the bridge and any land, structure, or installations appurtenant thereto, at the location set forth in the Preferred Alternative in the “Detroit River International Crossing (DRIC), Wayne County, Michigan, Final Environmental Impact Statement and Final Section 4(f) Evaluation” by the U.S. Department of Transportation, Federal Highway Administration and Michigan Department of Transportation, dated November 21, 2008, the Record of Decision of the Federal Highway Administration dated January 14, 2009, and the application for a Presidential permit submitted by the State of Michigan dated June 18, 2012.

The term “United States facilities” as used in this permit means that part of the facilities in the United States.

This permit is subject to the following conditions:

Article 1. (1) The United States facilities herein described, and all aspects of their operation, shall be subject to all the conditions, provisions, and requirements of this permit and any amendment thereof. This permit may be terminated at the will of the Secretary of State or the Secretary's delegate or may be amended by the Secretary of State or the Secretary's delegate at will or upon proper application therefore. The permittee shall make no substantial change in the location of the United States facilities or in the operation authorized by this permit until such changes have been approved by the Secretary of State or the Secretary's delegate.

(2) The construction, operation and maintenance of the United States facilities shall be in all material respects as described in the permitee's June 18, 2012, application for a Presidential Permit (the “Application”).

Article 2. (1) The standards for, and the manner of, the construction, operation, and maintenance of the United States facilities shall be subject to inspection and approval by the representatives of appropriate federal, state and local agencies. The permittee shall allow duly authorized officers and employees of such agencies free and unrestricted access to said facilities in the performance of their official duties.

(2) Prior to initiation of construction, the permittee shall obtain the approval of the United States Coast Guard (USCG) in conformity with Section 5 of the International Bridge Act of 1972 (33 U.S.C. 535c), 33 CFR 1.01-60 and Department of Homeland Security Delegation of Authority Number 0170.1.

Article 3. The permittee shall comply with all applicable federal, state, and local laws and regulations regarding the construction, operation, and maintenance of the United States facilities and with all applicable industrial codes. The permittee shall obtain all requisite permits from state and local government entities and relevant federal agencies.

Article 4. Upon the termination, revocation, or surrender of this permit, and unless otherwise agreed by the Secretary of State or the Secretary's delegate, the United States facilities in the immediate vicinity of the international boundary shall be removed by and at the expense of the permittee within such time as the Secretary of State or the Secretary's delegate may specify, and upon failure of the permittee to remove this portion of the United States facilities as ordered, the Secretary of State or the Secretary's delegate may direct that possession of such facilities be taken and that they be removed at the expense of the permittee; and the permittee shall have no claim for damages by reason of such possession or removal.

Article 5. If, in the future, it should appear to the Secretaries of the Army or Homeland Security (or either Secretary's delegate) or the United States Coast Guard that any facilities or operations permitted hereunder cause unreasonable obstructions to the free navigation of any of the navigable waters of the United States, the permittee may be required, upon notice from the Secretary of the Army or the Secretary of Homeland Security (or either Secretary's delegate) or the United States Coast Guard, to remove or alter such facilities as are owned by it so as to render navigation through such waters free and unobstructed.

Article 6. The construction, connection, operation and maintenance of the United States facilities hereunder shall be subject to the limitations, terms, and conditions issued by any competent agency of the U.S. government, including but not limited to the Department of Homeland Security (DHS) and the Department of Transportation (DOT). The permittee shall continue the operations hereby authorized in exact accordance with such limitations, terms, and conditions.

Article 7. When, in the opinion of the President of the United States, the national security of the United States demands it, due notice being given by the Secretary of State or the Secretary's delegate, the United States shall have the right to enter upon and take possession of any of the United States facilities or parts thereof; to retain possession, management, or control thereof for such length of time as may appear to the President to be necessary; and thereafter to restore possession and control to the permittee. In the event that the United States shall exercise such right, it shall pay to the permittee just and fair compensation for the use of such United States facilities upon the basis of a reasonable profit in normal conditions, and the cost of restoring said facilities to as good condition as existed at the time of entering and taking over the same, less the reasonable value of any improvements that may have been made by the United States.

Article 8. Any transfer of ownership or control of the United States facilities or any part thereof shall be immediately notified in writing to the United States Department of State, including the submission of information identifying the transferee. This permit shall remain in force subject to all the conditions, permissions and requirements of this permit and any amendments thereto unless subsequently terminated or amended by the Secretary of State or the Secretary's delegate.

Article 9. (1) The permittee shall acquire such right -of-way grants or easements, permits, and other authorizations as may become necessary and appropriate.

(2) The permittee shall save harmless and indemnify the United States from any claimed or adjudged liability arising out of the construction, operation, or maintenance of the facilities.

(3) The permittee shall maintain the United States facilities and every part thereof in a condition of good repair for their safe operation.

Article 10. (1) The permittee shall provide to the General Services Administration (GSA), at no cost to the federal government, a site that is adequate and acceptable to GSA on which to construct border station facilities at the United States terminal of the bridge. The permittee shall fully comply with all National Environmental Policy Act and National Historic Preservation Act mitigation provisions and stipulations for transfer of the site to the GSA.

(2) The permittee shall reach agreement with U.S. Customs and Border Protection (CBP) and other U.S. Federal Inspection Agencies on the provision of suitable facilities for officers to perform their duties. Such facilities shall meet the latest agency design standards and operational requirements including as necessary, but not limited to, inspection and office space, personnel parking and restrooms, an access road, kennels, and other operationally-required components.

Article 11. (1) The permittee shall take all appropriate measures to prevent or mitigate adverse environmental impacts or disruption of significant archeological resources in connection with the construction, operation, and maintenance of the United States facilities, including those mitigation measures set forth in the “Final Environmental Impact Statement and Final Section 4(f) Evaluation” by the U.S. Department of Transportation, Federal Highway Administration and Michigan Department of Transportation, dated November 21, 2008, the Record of Decision of the Federal Highway Administration dated January 14, 2009, and any additional measures that may be required as a result of any reevaluation of the foregoing pursuant to 23 CFR 771.129(b).

(2) The permittee shall not undertake any change to the design of the bridge, or any construction activity, that would result in temporary or permanent obstructions affecting the natural level or flow of boundary waters before obtaining written confirmation from the Department of State that the requirements of the 1909 Treaty Between the United States and Great Britain Relating to Boundary Waters, and Questions Arising Between the United States and Canada, have been satisfied.

Article 12. The permittee shall file with the appropriate agencies of the United States Government such statements or reports under oath with respect to the United States facilities, and/or permittee's actions in connection therewith, as are now or may hereafter be required under any laws or regulations of the U.S. government or its agencies.

Article 13. The permittee shall not begin construction until it has been informed that the Government of the United States and the Government of Canada have exchanged diplomatic notes confirming that both governments authorize for the commencement of such construction. The permittee shall provide written notice to the Department of State at such time as the construction authorized by this permit is begun, and again at such time as construction is completed, interrupted, or discontinued.

Article 14. The Agencies consulted pursuant to Executive Order 11423, as amended, were notified on March 27, 2013 of the determination of the Under Secretary for Economic Growth, Energy, and the Environment that issuance of this permit would serve the national interest. Pursuant to Executive Order 11423, as amended, this permit shall issue on April 12, 2013 provided that none of the Agencies so notified objects before that date.

Article 15. This permit shall expire ten (10) years from the date of issuance in the event that the permittee has not commenced construction of the United States facilities by that deadline.

In witness whereof, I, Robert D. Hormats, Under Secretary of State for Economic Growth, Energy, and the Environment, have hereunto set my hand this 29 day of March 2013 in the City of Washington, District of Columbia. End Permit text.

Elizabeth L. Martinez,
Director, Office of Canadian Affairs, Bureau of Western Hemisphere Affairs, U.S. Department of State.

[FR Doc. 2013-09138 Filed 4-17-13; 8:45 am]

BILLING CODE 4710-29-P